DEPARTMENT OF STATE

[Public Notice: 11491]

Foreign Affairs Policy Board Charter Renewal

ACTION: Notice of renewal of the charter of the Foreign Affairs Policy Board.

SUMMARY: Pursuant to the Federal Advisory Committee Act, the Department of State hereby provides notice of the renewal of the charter of the Foreign Affairs Policy Board (“the Board”). The Foreign Affairs Policy Board provides the Secretary of State with advice, feedback, and perspectives from a diverse array of experts to advance the Department's mission and help root American foreign policy in the needs and aspirations of the American people. The Board's activities are advisory only.

FOR FURTHER INFORMATION CONTACT: Designated Federal Officer Jennifer R. Littlejohn in the Office of Policy Planning, U.S. Department of State, at email: LittlejohnJR@state.gov.

SUPPLEMENTARY INFORMATION: The Board is established under the general authority of the Secretary of State and the Department of State as set forth in Title 22 of the United States Code, in particular Section 2656 of that Title and consistent with the Federal Advisory Committee Act.

Authority: 5 U.S.C. Appendix, 41 CFR 102-3.65.

Salman Ahmed,
Director, Office of Policy Planning, Department of State.

[FR Doc. 2021-16987 Filed 8-9-21; 8:45 am]

BILLING CODE 4710-10-P